ENVIRONMENTAL PROTECTION AGENCY

[FRL-8927-4]

Science Advisory Board Staff Office Notification of an Upcoming Meeting of the Science Advisory Board Environmental Engineering Committee

AGENCY: Environmental Protection Agency (EPA).

ACTION: Notice.

SUMMARY: The Environmental Protection Agency (EPA or Agency) Science Advisory Board (SAB) Staff Office announces a public face-to-face meeting of the SAB Environmental Engineering Committee (EEC). The EEC augmented with additional members will conduct a consultation on EPA's Aging Drinking Water and Wastewater Infrastructure Research Initiative.

DATES: The meeting dates are Tuesday, July 21, 2009 from 8:30 a.m. to 5 p.m. (Eastern Daylight Time) and Wednesday, July 22, 2009 from 8 a.m. to 12 noon (Eastern Daylight Time).

ADDRESSES: The Committee meeting will be held at the Kingsgate Marriott Conference Hotel at the University of Cincinnati, 151 Goodman Drive, Cincinnati, Ohio, 45219.

FOR FURTHER INFORMATION CONTACT: Members of the public who wish to obtain additional information regarding this meeting may contact Mr. Edward Hanlon, Designated Federal Officer (DFO), EPA Science Advisory Board (1400F), U.S. Environmental Protection Agency, 1200 Pennsylvania Avenue, NW., Washington, DC, 20460; telephone/voice mail: (202) 343-9946; fax (202) 233-0643; or via e-mail at hanlon.edward@epa.gov. General information about the EPA SAB as well as any updates concerning the meeting announced in this notice, may be found on the SAB Web site at http://www.epa.gov/sab. Any inquiry regarding EPA's Aging Drinking Water and Wastewater Infrastructure Research Initiative should be directed to Dr. Thomas Speth, EPA Office of Research and Development (ORD), at speth.thomas@epa.gov or (513) 569-7208.

SUPPLEMENTARY INFORMATION: Pursuant to the Federal Advisory Committee Act, 5 U.S.C., App. 2 (FACA), notice is hereby given that the SAB Environmental Engineering Committee augmented with additional experts will hold a public meeting to discuss comments on EPA's Aging Drinking Water and Wastewater Infrastructure Research Initiative. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: As discussed in the Federal Register Notice dated March 31, 2009 (74 FR 14553-14555) announcing this advisory activity, EPA's ORD initiated a research program in 2007 to improve and evaluate innovative technologies and techniques for reducing the cost and improving the effectiveness of operations, maintenance, and replacement of aging and failing systems for drinking water and wastewater treatment and conveyance. The outputs from this research program are intended to assist EPA's program and regional offices to implement Clean Water Act and Safe Drinking Water Act requirements; to help states and tribes meet their programmatic requirements; and to assist utilities to more effectively implement comprehensive management of drinking water and wastewater treatment and conveyance systems, provide reliable service to their customers, and meet their statutory requirements. In response to a request from EPA's ORD, the augmented EEC will hold a public meeting to provide comments on the suitability and appropriateness of completed, existing and upcoming research projects; whether additional projects are needed; and the overall scope of the initiative. Additional information about this consultative activity including a meeting agenda will be posted on the SAB Web site prior to the meeting at http://www.epa.gov/sab.

Availability of Meeting Materials: The agenda and other meeting materials will be available on the SAB Web site at http://www.epa.gov/sab in advance of the meeting.

Procedures for Providing Public Input: Interested members of the public may submit relevant written or oral information for the SAB EEC to consider during the advisory process. Oral Statements: In general, individuals or groups requesting an oral presentation at a public face-to-face meeting will be limited to five minutes per speaker, with no more than a total of one hour for all speakers. Each person making an oral statement should consider providing written comments as well as their oral statement so that the points presented orally can be expanded upon in writing. Interested parties should contact Edward Hanlon, DFO, in writing (preferably via e-mail) at the contact information noted above, by July 14, 2009 to be placed on the list of public speakers for the meeting. Written Statements: Written statements should be received in the SAB Staff Office by July 14, 2009 so that the information may be made available to the Committee members for their consideration. Written statements should be supplied to the DFO in the following formats: one hard copy with original signature, and one electronic copy via e-mail (acceptable file format: Adobe Acrobat PDF, WordPerfect, MS Word, MS PowerPoint, or Rich Text files in IBM-PC/Windows 98/2000/XP format). Submitters are requested to provide versions of each document submitted with and without signatures, because the SAB Staff Office does not publish documents with signatures on its Web sites.

Accessibility: For information on access or services for individuals with disabilities, please contact Edward Hanlon at the phone number or e-mail address noted above, preferably at least ten days prior to the public face-to-face meeting to give EPA as much time as possible to process your request.

Dated: June 29, 2009.
Anthony F. Maciorowski,
Deputy Director, EPA Science Advisory Board Staff Office.

[FR Doc. E9-16005 Filed 7-6-09; 8:45 am]

BILLING CODE 6560-50-P